Title 3—

The President

Proclamation 10675 of November 17, 2023

National Family Week, 2023

By the President of the United States of America

A Proclamation

My father always said that family is the beginning, the middle, and the end. Family is everything. During National Family Week, we celebrate the love, support, and resilience of the tens of millions of American families that make our Nation strong and keep the American Dream alive.

For too long, too many families in this country have lived with the prospect of an uncertain future. Too many parents have lain awake at night staring at the ceiling, wondering how they will make rent, send their kids to college, retire, or pay for medication. Too many have had to move far away from their hometowns to earn a living. I ran for President to change all that—to finally rebuild a strong middle class and grow our economy from the middle out and bottom up, giving hardworking families across the country a little more breathing room.

The historic legislation that we have since enacted is delivering, investing in American families and in America's future. The American Rescue Plan kept millions of families in their homes, food on the table, and folks on the job through the pandemic. Thanks to the Bipartisan Infrastructure Law, over 40,000 projects are currently underway to rebuild our Nation's roads, bridges, and ports, expand access to clean drinking water, and connect every home to high-speed internet. We are also working to revitalize American manufacturing—we have helped create nearly 800,000 manufacturing jobs, and through the CHIPS and Science Act, we are making historic investments across the country. The Inflation Reduction Act has made health care coverage cheaper for nearly 15 million Americans—it is set to cap out-of-pocket prescription drug costs for seniors on Medicare at $2,000 per year, and it has already slashed their insulin costs to $35 per month from as much as $400, helping families pay their monthly bills. Through the PACT Act, we are helping veterans who were exposed to toxic materials while serving get the health care and benefits that they and their families deserve. I am fighting hard to protect children and families from the scourge of gun violence—last year, I signed our Nation's most significant gun safety law in nearly 30 years, strengthening background checks, increasing the effective use of red flag laws, and expanding access to mental health services. I am fighting to ensure that all families have equal rights and dignity. That is why I was so proud to sign the Respect for Marriage Act into law, protecting the right to marriage for same-sex and interracial couples. I also signed an Executive Order that calls for the most comprehensive set of executive actions of any administration in history to increase high-quality child care, long-term care, and support for caregivers, ensuring that families have access to the support they need.

We have more to do to keep building on all of this progress, to make sure that every family in America has an equal shot at a better life of dignity and respect. During National Family Week, we celebrate the importance of spending time with loved ones, both the families that we are born into and the families that we create throughout our lives. Families are an essential part of the glue that holds our Nation together across generations, and we will never stop investing in their dreams.

NOW, THEREFORE, I, JOSEPH R. BIDEN JR., President of the United States of America, by virtue of the authority vested in me by the Constitution and the laws of the United States, do hereby proclaim November 19 through November 25, 2023, as National Family Week. I invite States, communities, and individuals to join together in observing this week with appropriate ceremonies and activities to honor our Nation's families.

IN WITNESS WHEREOF, I have hereunto set my hand this seventeenth day of November, in the year of our Lord two thousand twenty-three, and of the Independence of the United States of America the two hundred and forty-eighth.

[FR Doc. 2023-25980

Filed 11-21-23; 8:45 am]

Billing code 3395-F4-P